DEPARTMENT OF HOUSING AND URBAN DEVELOPMENT

[Docket No. FR-5477-N-30]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street, NW., Washington, DC 20314; (202) 761-5542; NAVY: Mr. Albert Johnson, Department of the Navy, Asset Management Division, Naval Facilities Engineering Command, Washington Navy Yard, 1330 Patterson Ave., SW., Suite 1000, Washington, DC 20374; (202)685-9305; (These are not toll-free numbers).

Dated: July 21, 2011.
Mark R. Johnston,
Deputy Assistant Secretary for Special Needs.

TITLE V, FEDERAL SURPLUS PROPERTY PROGRAM FEDERAL REGISTER REPORT FOR 07/29/2011

Unsuitable Properties

Building

Hawaii

Facility 1680

Basketball Court

JBPHH HI 96860

Landholding Agency: Navy

Property Number: 77201130011

Status: Excess

Reasons: Secured Area

Illinois

Bldg. 533

2130 Paul Jones St.

Great Lakes IL

Landholding Agency: Navy

Property Number: 77201130001

Status: Unutilized

Reasons: Secured Area

Maryland

11 Bldgs.

101 Strauss Ave.

Indian Head MD 20640

Landholding Agency: Navy

Property Number: 77201130002

Status: Excess

Directions: T-1, T-6, T-8, T-19, T-20, T-21, T-31, T-37, T-41, T-42, T-51

Reasons: Extensive deterioration, Within 2000 ft. of flammable or explosive material, Secured Area

4 Bldgs.

Stump Neck Annex

Indian Head MD 20640

Landholding Agency: Navy

Property Number: 77201130003

Status: Excess

Directions: 2010, 2047, 2073, 2096

Reasons: Extensive deterioration, Within 2000 ft. of flammable or explosive material, Secured Area

Bldg. 1738

101 Strauss Ave.

Indian Head MD 20640

Landholding Agency: Navy

Property Number: 77201130004

Status: Excess

Reasons: Within 2000 ft. of flammable or explosive material, Extensive deterioration, Secured Area

Bldg. 4SN

Stump Neck Annex

Indian Head MD 20640

Landholding Agency: Navy

Property Number: 77201130005

Status: Excess

Reasons: Within 2000 ft. of flammable or explosive material, Secured Area, Extensive deterioration

11 Bldgs.

101 Strauss Ave.

Indian Head MD 20640

Landholding Agency: Navy

Property Number: 77201130006

Status: Excess

Directions: 823, 833, 1012, 1018, 1041, 1050, 1143, 1371, 1559, 1688, 1737

Reasons: Secured Area, Extensive deterioration, Within 2000 ft. of flammable or explosive material

12 Bldgs.

101 Strauss Ave.

Indian Head MD 20640

Landholding Agency: Navy

Property Number: 77201130007

Status: Excess

Directions: 204, 270, 295, 295A, 295B, 296, 616, 624, 629, 658, 665, 742

Reasons: Extensive deterioration, Within airport runway clear zone, Secured Area

2 Bldgs.

Stump Neck Annex

Indian Head MD

Landholding Agency: Navy

Property Number: 77201130008

Status: Excess

Directions: 7SN and 39SN

Reasons: Within 2000 ft. of flammable or explosive material, Extensive deterioration, Secured Area

Bldgs. T-69 and T-73

101 Strauss Ave.

Indian Head MD 20640

Landholding Agency: Navy

Property Number: 77201130009

Status: Excess

Reasons: Secured Area, Within 2000 ft. of flammable or explosive material, Extensive deterioration

Bldgs. T-52 and T-54

101 Strauss Ave.

Indian Head MD 20640

Landholding Agency: Navy

Property Number: 77201130010

Status: Excess

Reasons: Secured Area, Extensive deterioration, Within airport runway clear zone

Texas

2 Bldgs.

Whitney Lake

Clifton TX 76634

Landholding Agency: COE

Property Number: 31201130001

Status: Underutilized

Directions: 27069 and 27070

Reasons: Within 2000 ft. of flammable or explosive material, Secured Area

[FR Doc. 2011-19114 Filed 7-28-11; 8:45 am]

BILLING CODE 4210-67-P